DEPARTMENT OF LABOR

Mine Safety and Health Administration

Petitions for Modification

The following parties have filed petitions to modify the application of existing safety standards under section 101(c) of the Federal Mine Safety and Health Act of 1977.

1. FMC Corporation

[Docket No. M-2006-001-M]

FMC Corporation, Box 872, Green River, Wyoming 82935 has filed a petition to modify the application of 30 CFR 57.22305 (Approved equipment (III mines)) to its FMC Westvaco Mine (MSHA I.D. No. 48-00152) located in Sweetwater County, Wyoming. The petitioner requests a modification of the existing standard to permit a submersible mine pump to be operated in a flooded area of the mine, and installed and operated through a borehole from the surface. The petitioner asserts that the proposed alternative method will not reduce the safety of the miners.

2. Laurel Creek Company, Inc.

[Docket No. M-2006-007-C]

Laurel Creek Company, Inc., P.O. Box 57, Dingess, West Virginia 25671 has filed a petition to modify the application of 30 CFR 75.1002 (Installation of electric equipment and conductors; permissibility) to its No. 5 Mine (MSHA I.D. No. 46-09132) located in Mingo County, West Virginia. The petitioner proposes to use high-voltage (2400-volt) continuous mining machines in and inby the last open crosscut of the No. 5 Mine. The petitioner asserts that the proposed alternative method would provide at least the same measure of protection as the existing standard.

Request for Comments

Persons interested in these petitions are encouraged to submit comments via E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before April 14, 2006. Copies of these petitions are available for inspection at that address.

Dated at Arlington, Virginia this 9th day of March 2006.
Robert F. Stone,
Acting Director, Office of Standards, Regulations, and Variances.

[FR Doc. E6-3748 Filed 3-14-06; 8:45 am]

BILLING CODE 4510-43-P